DEPARTMENT OF THE INTERIOR

Bureau of Land Management

[NV-030-00-1020-24]

Sierra Front-Northwestern Great Basin Resource Advisory Council; Notice of Meeting Location and Time

AGENCY: Bureau of Land Management, Interior.

ACTION: Notice of meeting location and time for the Sierra Front-Northwestern Great Basin Resource Advisory Council (Nevada).

SUMMARY: In accordance with the Federal Land Policy and Management Act and the Federal Advisory Committee Act of 1972 (FACA), the U.S. Department of the Interior, Bureau of Land Management (BLM) Sierra Front-Northwestern Great Basin Resource Advisory Council (RAC), Nevada, will be held as indicated below. Topics for discussion will include manager's reports of field office activities; RAC subcommittee report on the planning effort for the Black Rock-High Rock Emigrant Trail National Conservation Area; RAC review and recommendations on BLM land acquisition proposals under Round III of the Southern Nevada Public Lands Management Act; RAC review and recommendations on the Walker River Basin EIS; and other topics the council may raise.

Date & Time: The RAC will meet on Thursday, July 25, 2002, from 8 a.m. to 5 p.m., and Friday, July 26, 2002, from 8 a.m. to 12 p.m., at the Bridgeport Ranch, Barns & Terrace Facility, 68 Twin Lakes Road off U.S. Highway 395, Bridgeport, California. All meetings will be outdoors under a tent pavilion and are open to the public. A general public comment period will be held on Thursday, July 25, 2002, at 11 a.m. A field trip to the upper portions of the Walker River Basin may be scheduled for the afternoon of Thursday, July 25, 2002, starting from the Bridgeport meeting location; details will be listed in the agenda no later than July 5, 2002.

A detailed agenda will be available on the internet by July 5, 2002, at www.nv.blm.gov/rac; hard copies can also be mailed or sent via FAX. Individuals who need special assistance such as sign language interpretation or other reasonable accommodations, or who wish a hard copy of the agenda, should contact Mark Struble, Carson City Field Office, 5665 Morgan Mill Road, Carson City, NV 89701, telephone (775) 885-6107 no later than July 17, 2002.

FOR FURTHER INFORMATION CONTACT: Mark Struble, Public Affairs Officer, BLM Carson City Field Office, 5665 Morgan Mill Road, Carson City, NV 89701. Telephone (775) 885-6107.

Dated: April 12, 2002.
John O. Singlaub,
Field Manager, Carson City Field Office.

[FR Doc. 02-12908 Filed 5-22-02; 8:45 am]

BILLING CODE 4310-HC-P